DEPARTMENT OF DEFENSE

Department of the Army; Corps of Engineers

Notice of Availability of a Final Supplemental Environmental Impact Statement/Supplemental Environmental Impact Report (SEIS/SEIR), Draft Air Quality Conformity Determination (CD), and Section 404 Clean Water Act for the Port of Los Angeles Channel Deepening Project, Los Angeles, CA

AGENCY: U.S. Army Corps of Engineers, DoD.

ACTION: Notice of availability.

SUMMARY: The U.S. Army Corps of Engineers, Los Angeles District (Corps) and the Los Angeles Harbor Department (LAHD) have prepared a joint Final Supplemental Environmental Impact Statement/Supplemental Environmental Impact Report (SEIS/SEIR) for the Port of Los Angeles Channel Deepening Project, Los Angeles County, California. The Corps and the LAHD have reviewed the written and oral comments received during the August 6, 2008 public hearing and during the public comment period for the Draft SEIS/SEIR. The Corps is publishing a Notice of Availability for the Final SEIS/EIR and Draft CD in the Federal Register for public review. The document will also be placed at public libraries in the vicinity of the project area and distributed to the concerned resource agencies and the public who has provided comment on the Draft SEIS/SEIR.

DATES: Submit comments on or before May 17, 2009.

ADDRESSES: U.S. Army Corps of Engineers, Los Angeles District, CESPL-PD-RN, c/o Joy Jaiswal, P.O. Box 532711, Los Angeles, CA 90053-2325.

FOR FURTHER INFORMATION CONTACT: Ms. Joy Jaiswal, Chief, Ecosystem Planning Section, at (213) 452-3851 (voice), (213) 452-4204 (fax), or by e-mail at Jyotsna.I.Jaiswal@usace.army.mil. You may also contact Ms. Megan Wong, Project Environmental Coordinator, at (213) 452-3859 (voice) or by e-mail at Megan.T.Wong@usace.army.mil.

SUPPLEMENTARY INFORMATION: This Final SEIS/SEIR and the Draft CD have been filed with the Environmental Protection Agency to be published in the Federal Register and is available for a thirty-day (30) public review period. Review period for the Final SEIS/EIR and Draft CD will begin from the date of publishing the Notice of Availability in the Federal Register, which is on April 17, 2009. Please forward your comments on the Final SEIS/SEIR and/or the Draft CD by mail, e-mail, or fax to the contacts listed below by May 17, 2009.

(A) Notice for Final SEIS/EIR: The Corps and Port have reviewed all the comments received during 45-day public review period and Public Hearing on the Draft SEIS/EIR. Based on public comments, eelgrass habitat area has been eliminated as one of the disposal sites from Alternatives 1 and 2. Alternative 1, Port Development and Environmental Enhancement, was developed with a focus on beneficial use of dredge material for port development and environmental enhancement and disposal sites analyzed in the Final SEIS/EIR are: Berths 243-245, the Northwest Slip, CSWH Expansion, and LA-2. Alternative 2, Environmental Enhancement and Ocean Disposal, was developed with a focus on environmental enhancement related uses of the remaining material and does not include any disposal options associated with port development. Under Alternative 2, dredge material would be disposed at the CSWH Expansion, LA-2, LA-3 and the Anchorage Road Soil Storage Site. Under Alternative 3, the No Action Alternative, no further dredging would take place and the Channel Deepening Project would not be completed.

(B) A Draft Conformity Determination (CD) has been prepared for the Proposed Action, which is located in Appendix M of the Final SEIS/EIR. This notice also serves as review of the Draft CD. The Corps is publishing a Notice of Availability for the Final SEIS/EIR and Draft CD in the Federal Register for public review. The document will also be placed at public libraries in the vicinity of the project area and distributed to the concerned resource agencies and the public who has provided comment on the Draft SEIS/SEIR. Revisions to the text made in the Final SEIS/SEIR are marked with underline and the deleted text is marked with strikeout.

This Final SEIS/SEIR describes the affected resources and evaluates the potential impacts to those resources as a result of the Proposed Action and alternatives. The purpose of the Proposed Action is to dispose of up to 3.0 million cubic yards of dredge material required to complete the Channel Deepening Project and to beneficially reuse the dredge material within the Port of Los Angeles (Port).

(C) This announcement also serves as the Public Notice/Notice of Availability for the Section 404 Permit under the Clean Water Act (CWA). An application has been received for a Department of the Army permit for the activity described herein. The Corps is considering an application submitted by the LAHD for a permit, in accordance with Section 404 of the CWA, Section 10 of the Rivers and Harbors Act, and Section 103 of the Marine Protection, Research, and Sanctuaries Act, to complete dredging activities outside of the Federal Channel and placement of the dredge material in waters of the United States in the Port of Los Angeles and at designated ocean disposal sites (LA-2 and LA-3).

This SEIS/SEIR will be used by the Corps as part of their application review process. The Corps and the LAHD independently determined under the National Environmental Policy Act (NEPA) and the California Environmental Quality Act (CEQA), respectively, that there were potential significant environmental impacts associated with the proposed action, and an Environmental Impact Statement and Environmental Impact Report was required.

1. Authorization

By Water Resources Development Act of (WRDA) 2000, the Port of Los Angeles Channel Deepening Project was authorized for construction. The project is a continuation of the navigation channel optimization that began with the 1994 Deep Draft Navigation Improvement (DDNI) project.

2. Background

The proposed project area is located at the Port of Los Angeles, California. This SEIS/SEIR is a supplement to the 2000 SEIS/SEIR that was prepared for the Channel Deepening Project, which was a supplement to the 1998 Channel Deepening Project EIR and the 1992 Deep Draft Navigation Improvements Project EIS/EIR the modifications required to complete disposal of dredged material from the authorized project. This SEIS/SEIR addresses impacts associated with providing additional disposal capacity of approximately 3 mcy required to complete the Channel Deepening Project. Additional disposal capacity is required to complete the deepening of the navigation channel and berthing areas to -53 feet Mean Lower Low Water (MLLW) at container terminals along the deepened channel and the removal of dredge material that was temporarily used as surcharge at the Southwest Slip. This project meets a public need for safe and efficient commercial navigation.

3. Availability of the Final SEIS/SEIR and Draft CD

The Final SEIS/SEIR and the Draft CD for the Proposed Action are being distributed directly to agencies, organizations, and interested groups and persons for comment during the 30-day formal review period in accordance with Section 1506.10 of the Council on Environmental Quality NEPA Regulations and Section 176 of the Clean Air Act for CD, and Section 404 of Clean Water Act. During the 30-day public review period, which begins on April 17, 2009 and ends on May 17, 2009, the Final SEIS/SEIR is available for general public review at the following locations:

U.S. Army Corps of Engineers, Los Angeles District, Environmental Resources Branch, 915 Wilshire Blvd., 14th Floor, Los Angeles, CA 90053

Los Angeles Public Library, San Pedro Branch, 921 South Gaffey Street, San Pedro, CA 90731

Los Angeles Public Library, Central Branch, 630 West 5th Street, Los Angeles, CA 90071

Port of Los Angeles, Environmental Management Division, 425 South Palos Verdes Street, San Pedro, CA 90731

Los Angeles Public Library, Wilmington Branch, 1300 North Avalon Boulevard, Wilmington, CA 90744

Dated: April 1, 2009.
Thomas H. Magness,
Colonel, U.S. Army, District Commander.

[FR Doc. E9-8614 Filed 4-14-09; 8:45 am]

BILLING CODE 3710-KF-P